DEPARTMENT OF HOMELAND SECURITY

Coast Guard

33 CFR Part 165

[Docket No. USCG-2007-0097]

RIN 1625-AA87

Security Zone; Tampa Bay, Port of Tampa, Rattlesnake, Big Bend, FL

AGENCY: Coast Guard, DHS.

ACTION: Temporary final rule.

SUMMARY: The Coast Guard is temporarily revising the security zones in the Port of Tampa, East Bay, Rattlesnake, Sunshine Skyway Bridge and Big Bend for the purpose of providing counter-surveillance, intrusion detection and response measures. Entry into these zones will be prohibited unless authorized by the Captain of the Port St. Petersburg or a designated representative.

DATES: This rule is effective from January 2, 2008, until February 7, 2008.

ADDRESSES: Documents indicated in this preamble as being available in the docket are part of docket [USCG-2007-0097] and are available for inspection or copying at Coast Guard Sector St. Petersburg, Prevention Department, 155 Columbia Drive, Tampa, FL 33606-3598 between 7:30 a.m. and 3:30 p.m., Monday through Friday, except Federal holidays. They are also available in our online docket via www.regulations.gov.

FOR FURTHER INFORMATION CONTACT: Lt. Ronaydee Marquez, Waterways Management Division, Sector St. Petersburg, FL (813) 228-2191 Ext 8307.

SUPPLEMENTARY INFORMATION:

Regulatory Information

We did not publish a notice of proposed rulemaking (NPRM) for this regulation. Under 5 U.S.C. 553(b)(B), the Coast Guard finds that good cause exists for not publishing an NPRM. Publishing an NPRM and delaying its effective date would be contrary to the public interest since immediate action is necessary to continue security zones where the [COTP Sector St. Petersburg, FL. 07-047] temporary final rule established them to ensure the security of vessels, facilities, and the surrounding areas within the Captain of the Port Sector St. Petersburg Zone. The Coast Guard is making these changes permanent through the implementation of a final rule published elsewhere in today's Federal Register. The Coast Guard published a notice of proposed rulemaking in the Federal Register on November 6, 2007 (72 FR 62609), in that separate rulemaking for the final rule. Temporary Final Rule [COTP Sector St. Petersburg, FL. 07-047] will expire just before the final rule comes into effect on February 7, 2008. The purpose of this temporary final rule is to maintain the security zones between the time the [COTP Sector St. Petersburg, FL. 07-047] expires and the implementation of the final rule [USCG-2007-0062].

For the same reasons, under 5 U.S.C. 553(d)(3), the Coast Guard finds that good cause exists for making this rule effective less than 30 days after publication in the Federal Register.

Background and Purpose

This temporary final rule adopts the currently established revisions to the Tampa Bay security zones as published under [COTP Sector St. Petersburg, FL. 07-047] and as proposed the NPRM published on November 6, 2007. The temporary final rule [COTP Sector St. Petersburg, FL. 07-047] lasts only through January 1, 2008, at which time the final rule [USCG-2007-0062] published elsewhere in today's Federal Register will not yet be effective. As referenced in the temporary final rule [COTP Sector St. Petersburg, FL. 07-047], the Maritime Transportation Security Act mandated Area Maritime Security Committee convened a working group to validate the existing security zones within Tampa Bay that were established following the terrorist attacks of September 11, 2001. These existing security zones included some established September 3, 2003, codified in 33 CFR 165.760, and some established September 1, 2003, codified in § 165.764 (68 FR 47852, August 12, 2003).

Using the newly developed Maritime Security Risk Analysis Model tool, the working group evaluated risk to the maritime transportation system (MTS) within Tampa Bay. The results of the risk assessment indicated the need to revise the following established security zones for the purpose of implementing counter-surveillance; and, intrusion detection and response measures:

• § 165.760(a)(1), Rattlesnake, Tampa, FL;

• § 165.760(a)(3), Sunshine Skyway Bridge, Tampa, FL;

• § 165.760(a)(5), Piers, Seawalls, and Facilities, Port of Tampa, Port Sutton and East Bay;

• § 165.760(a)(6), Piers, Seawalls, and Facilities, Port of Tampa, East Bay and the eastern side of Hooker's Point;

• § 165.760(a)(7), Piers, Seawalls, and Facilities, Port of Tampa, on the western side of Hooker's Point; and

• § 165.760(a)(8), Piers, Seawalls, and Facilities, Port of Manatee.

• § 165.764(a)(1), Big Bend, Tampa Bay, Florida zone. The Security Zones revised includes 3 zones within the Port of Tampa (Port Sutton and East Bay; East Bay and the eastern side of Hooker's Point; and the western side of Hooker's Point), Sunshine Skyway Bridge, Rattlesnake and Big Bend and Port of Manatee. At the Port of Tampa, a minor adjustment to the Security Zone boundary was implemented for alignment with protected assets. The East Bay segment of the Security Zone was discontinued. The Security Zone beneath the Sunshine Skyway Bridge was reduced to the size of the navigable channel. The Rattlesnake area Security Zone was expanded shoreward to protect critical facilities. The Big Bend Security Zone was slightly modified to align with the natural barriers around the facility.

Discussion of Rule

This temporary rule extends the regulation established by temporary final rule [COTP Sector St. Petersburg, FL. 07-047]. The following security zones will temporarily suspend paragraphs in §§ 165.760 and 165.764 that are being replaced by these new security zones or that are no longer needed. The coordinates are based on North American Datum (NAD) 1983.

• Rattlesnake, Tampa, FL. All water from surface to bottom, in Old Tampa Bay east and south of a line commencing at position 27°53.32′ N, 082°32.05′ W; north to 27°53.36′ N, 082°32.05′ W, including the fenced area encompassing the Chemical Formulators Chlorine Facility.

• Sunshine Skyway Bridge, FL. All waters in Tampa Bay, from surface to bottom, in Cut “A” channel beneath the bridge's main span encompassed by a line connecting the following points: 27°37.30′ N, 082°39.38′ W to 27°37.13′ N, 082°39.26′ W; and, the bridge structure columns, base and dolphins. This is specific to the bridge structure and dolphins and does not include waters adjacent to the bridge columns or dolphins outside of the bridge's main span.

• Piers, seawalls, and facilities, Port of Tampa and Port Sutton, Tampa, FL. All waters, from surface to bottom, extending 50 yards from the shore, seawall and piers around facilities in Port Sutton within the Port of Tampa encompassed by a line connecting the following points: 27°54.15′ N, 082°26.11′ W, east northeast to 27°54.19′ N, 082°26.00′ W, then northeast to 27°54.37′ N, 082°25.72′ W, closing off all Port Sutton channel, then northerly to 27°54.48′ N, 082°25.70′ W.

• Piers, seawalls, and facilities, Port of Tampa, on the western side of Hooker's Point, Tampa, FL. All waters, from surface to bottom, extending 50 yards from the shore, seawall and piers around facilities on Hillsborough Bay northern portion of Cut “D” channel, Sparkman channel, Ybor Turning Basin, and Ybor channel within the Port of Tampa encompassed by a line connecting the following points: 27°54.74′ N, 082°26.47′ W, northwest to 27°55.25′ N, 082°26.73′ W, then north-northwest to 27°55.60′ N, 082°26.80′ W, then north-northeast to 27°56.00′ N, 082°26.75′ W, then northeast to 27°56.58′ N, 082°26.53′ W, and north to 27°57.29′ N, 082°26.51′ W, west to 27°57.29′ N, 082°26.61′ W, then southerly to 27°56.65′ N, 082°26.63′ W, southwesterly to 27°56.58′ N, 082°26.69′ W, then southwesterly and terminating at 27°56.53′ N, 082°26.90′ W.

• Big Bend Power Plant, FL. All waters of Tampa Bay, from surface to bottom, adjacent to the Big Bend Power Facility, and within an area bounded by a line connecting the following points: 27°48.08 N, 082°24.88 W then northwest to 27°48.15 N, 082°24.96 W then southwest to 27°48.10 N, 082°25.00 W then south-southwest to 27°47.85N, 082°25.03 W then southeast to 27°47.85 N, 082°24.79 W then east to 27°47.55 N, 082°24.04 W then north to 27°47.62 N, 082°84.04 W then west to 27°47.60 N, 082°24.72 W then north to 27°48.03 N, 082°24.70 W then northwest to 27°48.08 N, 082°24.88 W, closing off entrance to Big Bend Power Facility and the attached cooling canal.

Entry into or remaining on or within these zones is prohibited unless authorized by the Captain of the Port Sector St. Petersburg or a designated representative. Persons desiring to transit the area of the security zone may contact the Captain of the Port Sector St. Petersburg or a designated representative on VHF channel 16, or by phone at (727) 824-7506, to seek permission to transit the area. If permission is granted, all persons and vessels must comply with the instructions of the Captain of the Port or his designated representative.

Regulatory Evaluation

This rule is not a “significant regulatory action” under section 3(f) of Executive Order 12866, Regulatory Planning and Review, and does not require an assessment of potential costs and benefits under section 6(a)(3) of that Order. The Office of Management and Budget has not reviewed it under that Order.

We expect the economic impact of this rule to be so minimal that a full Regulatory Evaluation is unnecessary. This rule may have some impact on the public, but these potential impacts will be minimized for the following reasons: there is ample room for vessels to navigate around security zones, and there are several locations for recreational and commercial fishing vessels to fish throughout the Tampa Bay Region. Also, the Captain of the Port St. Petersburg may, on a case-by-case basis allow persons or vessels to enter a security zone.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule may impact the following entities, some of which may be small entities: the owners or operators of vessels who wish to transit in the areas where the security zones are enforced. This rule will not have a significant impact on a substantial number of small entities because the majority of the zones are limited in size, leaving ample room for vessels to navigate around the zones. The zones will not significantly impact commuter and passenger vessel traffic patterns, and mariners will be notified of the zones via local notice to mariners and marine broadcasts. Also, the Captain of the Port may, on a case-by-case basis allow persons or vessels to enter a security zone.

Assistance for Small Entities

Under section 213(a) of the Small Business Regulatory Enforcement

Fairness Act of 1996 (Pub. L. 104-121), we want to assist small entities in understanding this proposed rule so that they can better evaluate its effects on them and participate in the rulemaking. If the rule would affect your small business, organization, or governmental jurisdiction and you have questions concerning its provisions or options for compliance, please contact the office listed under FOR FURTHER INFORMATION CONTACT, for assistance in understanding this rule. The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions

Concerning Regulations That Significantly Affect Energy Supply,

Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(g.), of the Instruction, from further environmental documentation. An “Environmental Analysis Check List” and a “Categorical Exclusion Determination” are available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1, 6.04-1, 6.04-6 and 160.5; Pub. L. 107-295, 116 Stat. 2064; Department of Homeland Security Delegation No. 0170.1.

2. Add new temporary § 165.T07-0097 to read as follows:

§ 165.T07-0097 Security Zone; Tampa Bay, Port of Tampa, Rattlesnake and Big Bend; Florida.

(a) Regulated Areas. The following areas, denoted by coordinates fixed using the North American Datum of 1983, are security zones:

(1) Rattlesnake, Tampa, FL. All water from surface to bottom, in Old Tampa Bay east and south of a line commencing at position 27°53.32′ N, 082°32.05′ W; north to 27°53.36′ N, 082°32.05′ W, including the fenced area encompassing the Chemical Formulators Chlorine Facility.

(2) Sunshine Skyway Bridge, FL. All waters in Tampa Bay, from surface to bottom, in Cut “A” channel beneath the bridge's main span encompassed by a line connecting the following points: 27°37.30′ N, 082°39.38′ W to 27°37.13′ N, 082°39.26′ W; and, the bridge structure columns, base and dolphins. This is specific to the bridge structure and dolphins and does not include waters adjacent to the bridge columns or dolphins outside of the bridge's main span.

(3) Piers, seawalls, and facilities, Port of Tampa and Port Sutton, Tampa, FL. All waters, from surface to bottom, extending 50 yards from the shore, seawall and piers around facilities in Port Sutton within the Port of Tampa encompassed by a line connecting the following points: 27°54.15′ N, 082°26.11′ W, east northeast to 27°54.19′ N, 082°26.00′ W, then northeast to 27°54.37′ N, 082°25.72′ W, closing off all Port Sutton Channel, then northerly to 27°54.48′ N, 082°25.70′ W.

(4) Piers, seawalls, and facilities, Port of Tampa, on the western side of Hooker's Point, Tampa, FL. All waters, from surface to bottom, extending 50 yards from the shore, seawall and piers around facilities on Hillsborough Bay northern portion of Cut “D” channel, Sparkman channel, Ybor Turning Basin, and Ybor channel within the Port of Tampa encompassed by a line connecting the following points: 27°54.74′ N, 082°26.47′ W, northwest to 27°55.25′ N, 082°26.73′ W, then north-northwest to 27°55.60′ N, 082°26.80′ W, then north-northeast to 27°56.00′ N, 082°26.75′ W, then northeast to 27°56.58′ N, 082°26.53′ W, and north to 27°57.29′ N, 082°26.51′ W, west to 27°57.29′ N, 082°26.61′ W, then southerly to 27°56.65′ N, 082°26.63′ W, southwesterly to 27°56.58′ N, 082°26.69′ W, then southwesterly and terminating at 27°56.53′ N, 082°26.90′ W.

(5) Big Bend Power Plant, FL. All waters of Tampa Bay, from surface to bottom, adjacent to the Big Bend Power Facility, and within an area bounded by a line connecting the following points: 27°48.08 N, 082°24.88 W then northwest to 27°48.15 N, 082°24.96 W then southwest to 27°48.10 N, 082°25.00 W then south-southwest to 27°47.85 N, 082°25.03 W then southeast to 27°47.85 N, 082°24.79 W then east to 27°47.55 N, 082°24.04 W then north to 27°47.62 N, 082°84.04 W then west to 27°47.60 N, 082°24.72 W then north to 27°48.03 N, 082°24.70 W then northwest to 27°48.08 N, 082°24.88 W, closing off entrance to Big Bend Power Facility and the attached cooling canal.

(b) Regulation. (1) Entry into or remaining on or within these zones is prohibited unless authorized by the Captain of the Port Sector St. Petersburg or his designee.

(2) Persons desiring to transit the area of the security zone may contact the Captain of the Port Sector St. Petersburg or his designee on VHF channel 16, or by phone at (727) 824-7506, to seek permission to transit the area. If permission is granted, all persons and vessels must comply with the instructions of the Captain of the Port or his designated representative.

(c) Effective period. This section is effective from January 2, 2008, until February 7, 2008.

§ 165.760 [Amended]

3. In § 165.760, from January 2, 2008, until February 7, 2008, suspend paragraphs (a)(1), (a)(3), (a)(5), (a)(6), (a)(7) and (a)(8).

§ 165.764 [Amended]

4. In § 165.764, from January 2, 2008, until February 7, 2008, suspend paragraph (a)(1).

Dated: December 29, 2007.
A.S. Young,
Commander, U.S. Coast Guard, Acting Captain of the Port Sector St. Petersburg.

[FR Doc. 08-21 Filed 1-3-08; 3:47 pm]

BILLING CODE 4910-15-P